DEPARTMENT OF HEALTH AND HUMAN SERVICES

Centers for Medicare & Medicaid Services

[Document Identifier: CMS-R-285, CMS-10170, CMS-R-0074, CMS-R-107, CMS-2786U, CMS-416 and CMS-10265]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Request For Retirement Benefit Information; Use: Section 1818 of the Social Security Act provides that former State and local government employees who are age 65 or older, that have been entitled to Premium Part A for at least 7 years, and did not have the premium paid for by a State or a political subdivision of a State, may have the Part A premium reduced to zero. This collection will assist in determining whether individuals currently paying a monthly premium for Medicare Part A coverage are eligible to have their premium reduced to zero. Form Number: CMS-R-285 (OMB# 0938-0769); Frequency: Monthly; Affected Public: State, Local or Tribal Governments; Number of Respondents: 1,500; Total Annual Responses: 1,500; Total Annual Hours: 375. (For policy questions regarding this collection contact: Denise Cox at 410-786-3195. For all other issues call 410-786-1326.)

2. Type of Information Collection Request: Revision of a currently approved collection; Title of Information Collection: Retiree Drug Subsidy (RDS) Payment Request and Instructions; Use: Under section 1860D-22 of the Social Security Act, plan sponsors (e.g., employers, unions) who offer prescription drug coverage meeting specified criteria to their qualified covered retirees are eligible to receive a 28% tax-free subsidy for allowable drug costs. Plan sponsors must submit required prescription drug cost data and other information in order to receive the subsidy. Form Number: CMS-10170 (OMB# 0938-0977); Frequency: Yearly; Affected Public: Business or other for-profits, not-for-profit institutions, not-for-profit institutions and State, Local or Tribal Governments; Number of Respondents: 4,500; Total Annual Responses: 4,500; Total Annual Hours: 679,500. (For policy questions regarding this collection contact: David Mlawsky at 410-786-6851. For all other issues call 410-786-1326.)

3. Type of Information Collection Request: Extension of a currently approved collection; Title of Information Collection: Income and Eligibility Verification System; Use: This collection is necessary to verify income and eligibility requirements for Medicaid beneficiaries, as required by Section 1137 of the Social Security Act. Form Number: CMS-R-74 (OMB# 0938-0467); Frequency: Monthly; Affected Public: State, Local or Tribal Governments; Number of Respondents: 54; Total Annual Responses: 54; Total Annual Hours: 124,054. (For policy questions regarding this collection contact: Mel Schmerler at 410-786-3414. For all other issues call 410-786-1326.)

4. Type of Information Collection Request: Extension of a currently approved collection; Title of Information Collection: Medicaid-Determining Third Party Liability (TPL) State Plan Preprint and Supporting Regulations in 42 CFR 433.138; Use: The information collected from Medicaid applicants and beneficiaries as well as from State and local agencies is necessary to determine the legal liability of third parties to pay for medical services in lieu of Medicaid payment. Form Number: CMS-R-107 (OMB# 0938-0502); Frequency: On occasion; Affected Public: Individuals or households and State, Local or Tribal Government; Number of Respondents: 2,900,000; Total Annual Responses: 2,900,000; Total Annual Hours: 510,968. (For policy questions regarding this collection contact Gwendolyn Talvert at 410-786-5928. For all other issues call 410-786-1326.)

5. Type of Information Collection Request: Revision of a currently approved collection; Title of Information Collection: Fire Safety Survey Reports; Use: The Life Safety Code (LSC) is a compilation of fire safety requirements for new and existing buildings and is updated and published every 3 years by the National Fire Protection Association (NFPA), a private, non-profit organization dedicated to reducing loss of life due to fire. The Medicare regulations have historically incorporated by reference these requirements along with Secretarial waiver authority. The statutory basis for incorporating NFPA's LSC for our providers is under the Secretary's general rulemaking authority at Sections 1102 and 1871 of the Social Security Act. These forms are used by the State Agencies to record data collected to determine compliance with standards specified in 416.44(b) for ambulatory surgical centers (ASCs), and 494.60(e) for End-Stage Renal Disease (ESRD) facilities. The Medicare Health Insurance Program is authorized by Title XVIII of the Social Security Act. The CMS-2786U form is being revised to include ESRD information. Form Number: 2786U (OMB# 0938-0242); Frequency: Weekly; Affected Public: Individuals or households and State, Local or Tribal Government; Number of Respondents: 54; Total Annual Responses: 2,442; Total Annual Hours: 4,884. (For policy questions regarding this collection contact JoAnn Perry at 410-786-3336. For all other issues call 410-786-1326.)

6. Type of Information Collection Request: Revision of a currently approved collection; Title of Information Collection: Annual Early and Periodic Screening, Diagnostic and Treatment (EPSDT) Report; Use: States are required to submit an annual report on the provision of EPSDT services pursuant to section 1902(a)(43)(D) of the Social Security Act. These reports provide CMS with data necessary to assess the effectiveness of State EPSDT programs, to determine a State's results in achieving its participation goal and to respond to inquiries. This collection is being submitted as a revision based on minor changes made to the form and instructions. CMS has added three additional lines of data to the form (lines 12d, 12e and 12f). This information is currently being collected; however, CMS expanded the lines to obtain a better understanding for the utilization of dental services. CMS believes there will be no additional burden for the changes made to the form. The changes were necessary to accommodate a need for more specific dental data and to preliminary notify States of a change in CPT codes. A clarification was also made to line 14 of the instructions. Form Number: CMS-416 (OMB# 0938-0354); Frequency: Yearly; Affected Public: State, Local or Tribal Governments; Number of Respondents: 56; Total Annual Responses: 56; Total Annual Hours: 1,568. (For policy questions regarding this collection contact Cindy Ruff at 410-786-5916. For all other issues call 410-786-1326.)

7. Type of Information Collection Request: New collection; Title of Information Collection: Mandatory Insurer Reporting Requirements of Section 111 of the Medicare, Medicaid and SCHIP Act of 2007 (MMSEA) (Pub. L.110-173); Use: Section 111 of the Medicare, Medicaid and SCHIP Extension Act of 2007 (Pub. L. 110-173) amends the Medicare Secondary Payer (MSP) provisions of the Social Security Act (42 U.S.C. 1395y(b)) to provide for mandatory reporting by group health plan arrangements and by liability insurance (including self-insurance), no-fault insurance, and workers' compensation laws and plans. The law provides that, not withstanding any other provision of law, the Secretary of Health and Human Services may implement this provision by program instruction or otherwise. The Secretary has elected not to implement the provision through rulemaking and will implement by publishing instructions on a publicly available Web site and submitting an information collection request to OMB for review and approval of the associated information collection requirements.

Effective January 1, 2009, as required by the MMSEA, an entity serving as an insurer or third party administrator for a group health plan and, in the case of a group health plan that is self-insured and self-administered, a plan administrator or fiduciary must: (1) Secure from the plan sponsor and plan participants such information as the Secretary may specify to identify situations where the group health plan is a primary plan to Medicare; and (2) report such information to the Secretary in the form and manner (including frequency) specified by the Secretary.

Effective July 1, 2009, as required by the MMSEA, “applicable plans,” must: (1) Determine whether a claimant is entitled to Medicare benefits; and, if so, (2) report the identity of such claimant and provide such other information as the Secretary may require to properly coordinate Medicare benefits with respect to such insurance arrangements in the form and manner (including frequency) as the Secretary may specify after the claim is resolved through a settlement, judgment, award or other payment (regardless of whether or not there is a determination or admission of liability). Applicable plan refers to the following laws, plans or other arrangements, including the fiduciary or administrator for such law, plan or arrangement: (1) Liability insurance (including self-insurance); (2) No-fault insurance; and (3) Workers' compensation laws or plans.

As indicated, the Secretary has elected to implement this provision by publishing instructions at a Web site established for such purpose. The Web site is (http://www.cms.hhs.gov/MandatoryInsRep/). CMS shall use this Web site to publish preliminary guidance as well as the final instructions. The Web site also advises interested parties how to comment on the preliminary guidance. Form Number: CMS-10265 (OMB# 0938-New); Frequency: Yearly; Affected Public: Business or other for-profits, not-for-profit institutions and State, Local or Tribal Governments; Number of Respondents: 290,404; Total Annual Responses: 6,920,504; Total Annual Hours: 2,120,478. (For policy questions regarding this collection contact John Albert at 410-786-7457. For all other issues call 410-786-1326.)

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on March 16, 2009: OMB, Office of Information and Regulatory Affairs, Attention: CMS Desk Officer, New Executive Office Building, Room 10235, Washington, DC 20503, Fax Number: (202) 395-6974.

Dated: February 6, 2009.
Michelle Shortt,
Director, Regulations Development Group, Office of Strategic Operations and Regulatory Affairs.

[FR Doc. E9-3156 Filed 2-12-09; 8:45 am]

BILLING CODE 4120-01-P